DEPARTMENT OF THE INTERIOR

Fish and Wildlife Service

Information Collection Sent to the Office of Management and Budget (OMB) for Approval; OMB Control No. 1018-0123; International Conservation Grant Programs

AGENCY: Fish and Wildlife Service, Interior.

ACTION: Notice; request for comments.

SUMMARY: We (Fish and Wildlife Service) have sent an Information Collection Request (ICR) to OMB for review and approval. This ICR revises OMB Control No. 1018-0123 to include our new Wildlife Without Borders Africa Grant Program. The ICR, which is summarized below, describes the nature of the collection and the estimated burden and cost. We may not conduct or sponsor and a person is not required to respond to a collection of information unless it displays a currently valid OMB control number.

DATES: You must submit comments on or before May 12, 2008.

ADDRESSES: Send your comments and suggestions on this ICR to the Desk Officer for the Department of the Interior at OMB-OIRA at (202) 395-6566 (fax) or OIRA_DOCKET@OMB.eop.gov (e-mail). Please provide a copy of your comments to Hope Grey, Information Collection Clearance Officer, Fish and Wildlife Service, MS 222-ARLSQ, 4401 North Fairfax Drive, Arlington, VA 22203 (mail); (703) 358-2269 (fax); or hope_grey@fws.gov (e-mail).

FOR FURTHER INFORMATION CONTACT: To request additional information about this ICR, contact Hope Grey by mail, fax, or e-mail (see ADDRESSES) or by telephone at (703) 358-2482.

SUPPLEMENTARY INFORMATION:

OMB Control Number: 1018-0123.

Title: International Conservation Grant Programs.

Service Form Number(s): 3-2338.

Type of Request: Revision of a currently approved collection.

Affected Public: Domestic and nondomestic Federal, State, and local governments; nonprofit, nongovernmental organizations; public and private institutions of higher education; and any other organization or individual with demonstrated experience deemed necessary to carry out the proposed project.

Respondent's Obligation: Required to obtain or retain a benefit.

Frequency of Collection: Annually.

Activity | Number of annual respondents | Number of annual responses | Completion time per response | Annual burden hours
Grant Application (cover page and narrative) | 539* | 539 | 12 hours | 6,468
Report (mid-term and final) | 126* | 252 | 30 hours | 7,560
Totals | 665 | 791 |  | 14,028

*Of the 539 applicants, we estimate that 137 will be domestic and 402 will be nondomestic. Of the 126 grantees submitting reports, we estimate that 32 will be domestic and 94 will be nondomestic.

Abstract: The Division of International Conservation awards grants funded under the:

(1) African Elephant Conservation Act (16 U.S.C. 4201-4245).

(2) Asian Elephant Conservation Act of 1997 (16 U.S.C. 4261).

(3) Great Apes Conservation Act of 2000 (Pub. L. 106-411).

(4) Rhinoceros and Tiger Conservation Act of 1994 (16 U.S.C. 5306).

(5) Marine Turtle Conservation Act (Pub. L. 108-266).

(6) Wildlife Without Borders Programs - Mexico, Latin America and the Caribbean, and Russia.

OMB has approved the information collection associated with the above grants and assigned control number 1018-0123. We have asked OMB to approve our proposed information collection associated with the Africa Grant Program, which will be our newest area of focus under the Wildlife Without Borders programs.

Africa's magnificent wildlife resources are under increasing pressure from human activities. The proposed Africa grant initiative aims to provide training opportunities for African conservationists, educators, and policymakers to strengthen wildlife management in and around protected areas. For the purpose of this fund, protected areas are defined as sites that are publicly or privately owned with recognized legal status accorded by national, provincial, or local government, containing primarily unmodified natural systems managed for long-term protection. Examples include: national parks, forest reserves, buffer zones, community reserves, and privately held land conservancies. Of particular interest are projects that provide training to:

(1) Raise capacity in and around protected areas to mitigate the impact of extractive industries, climate change, human /wildlife conflict, illegal trade in bushmeat, and/or wildlife disease.

(2) Strengthen the administrative capacity (human resource management, financial management, vehicle and facility maintenance, grant writing and project implementation, community outreach and education, conflict resolution, and coalition building) of protected areas.

(3) Strengthen university, college, and other conservation training programs that address protected area management.

(4) Strengthen decisionmakers' knowledge of concepts relevant to protected area legislation, policy, and finance and the importance of harmonizing these with other national sectoral policies.

By providing wildlife professionals with opportunities for training, we can help empower a generation of local people to address key conservation issues such as the threat to wildlife from extractive industries, illegal hunting, human/wildlife conflict, and wildlife disease.

Applicants submit proposals for funding in response to Notices of Funding Availability that we will publish on Grants.gov. We plan to collect the following information:

(1) Cover page with basic project details (FWS Form 3-2338).

(2) Project summary and narrative.

(3) Letter of appropriate government endorsement.

(4) Brief curricula vitae for key project personnel.

(5) Complete Standard Forms 424 and 424b (nondomestic applicants do not submit the standard forms).

Proposals may also include, as appropriate, a copy of the organization's Negotiated Indirect Cost Rate Agreement (NIRCA) and any additional documentation supporting the proposed project.

The project summary and narrative are the basis for this information collection request for approval. A panel of technical experts reviews each proposal to assess how well the project addresses the priorities identified by each program's authorizing legislation. As all of the on-the-ground projects funded by this program will be conducted outside the United States, the letter of appropriate government endorsement ensures that the proposed activities will not meet with local resistance or work in opposition to locally identified priorities and needs. Brief curricula vitae for key project personnel allow the review panel to assess the qualifications of project staff to effectively carry out the project goals and objectives. As all Federal entities must honor the indirect cost rates an organization has negotiated with its cognizant agency, we require all organizations with a NICRA to submit the agreement paperwork with their proposals to verify how their rate is applied in their proposed budget. Applicants may provide any additional documentation that they believe best supports their proposal.

Comments: On October 30, 2007, we published in the Federal Register (72 FR 61363) a notice of our intent to request that OMB approve our proposed collection of information for the African Grant Program. In that notice, we solicited comments for 60 days, ending on December 31, 2007. We did not receive any comments in response to that notice.

We again invite comments concerning this information collection on:

(1) whether or not the collection of information is necessary, including whether or not the information will have practical utility;

(2) the accuracy of our estimate of the burden for this collection of information;

(3) ways to enhance the quality, utility, and clarity of the information to be collected; and

(4) ways to minimize the burden of the collection of information on respondents.

Comments that you submit in response to this notice are a matter of public record. Before including your address, phone number, e-mail address, or other personal identifying information in your comment, you should be aware that your entire comment, including your personal identifying information, may be made publicly available at any time. While you can ask OMB in your comment to withhold your personal identifying information from public review, we cannot guarantee that it will be done.

Dated: February 12, 2008
Hope Grey,
Information Collection Clearance Officer, Fish and Wildlife Service.

FR Doc. E8-7648 Filed 4-10-08; 8:45 am

BILLING CODE 4310-55-S